DEPARTMENT OF COMMERCE

Submission for OMB Review; Comment Request

The Department of Commerce will submit to the Office of Management and Budget (OMB) for clearance the following proposal for collection of information under the provisions of the Paperwork Reduction Act (44 U.S.C. chapter 35).

Agency: International Trade Administration (ITA).

Title: SABIT Participant Application, Program Exit Questionnaire, and Alumni Success Story Report.

OMB Control Number: 0625-0225.

Form Number(s): ITA-4143P-3.

Type of Request: Regular submission.

Burden Hours: 4,400.

Number of Respondents: 2,000.

Average Hours per Response: 3 hours for application; 1 hour for program exit questionnaire; and 1 hour for alumni success form.

Needs and Uses: The information collected by the Special American Business Internship Training Program (SABIT) application for participation in the SABIT Group Program will be used by ITA staff to determine the quality of applicants for SABIT's programs and create delegations of professionals from Eurasia and other regions. The program exit questionnaire will be used to improve the program by determining what worked and what did not work. The alumni success form will be used to track SABIT alumni to determine how well the program is meeting its foreign policy objectives.

Affected Public: International individuals or households; International businesses or other for-profit organizations.

Frequency: Annually.

Respondent's Obligation: Voluntary.

OMB Desk Officer: Wendy Liberante, (202) 395-3647.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to Wendy Liberante, OMB Desk Officer, Fax number (202) 395-5167 or via the Internet at Wendy_L._Liberante@omb.eop.gov.

Dated: June 22, 2011.
Gwellnar Banks,
Management Analyst, Office of the Chief Information Officer.

[FR Doc. 2011-16078 Filed 6-27-11; 8:45 am]

BILLING CODE 3510-HE-P